DEPARTMENT OF LABOR

Office of the Secretary

Submission for OMB Review: Comment Request

December 16, 2008.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Mary Beth Smith-Toomey on 202-693-4223 (this is not a toll-free number) /e-mail: DOL_PRA_PUBLIC@dol.gov.

Interested parties are encouraged to send comments to the Office of Information and Regulatory Affairs, Attn: OMB Desk Officer for the Department of Labor—ETA, Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Training Administration.

Type of Review: Revision of an existing OMB Control Number.

Title of Collection: Investigative Data Collection Requirements for the Trade Act of 1974 as amended by the Trade Act of 2002.

OMB Control Number: 1205-0342.

Agency Form Numbers: ETA 9042a, ETA 9042a-1 (Spanish), ETA 9043a, ETA 9118, and ETA 8562a.

Affected Public: Private Sector—Business or other for-profits and Not-for-profit Institutions, Individuals or Households, and State, Local, or Tribal Governments.

Total Estimated Number of Respondents: 12,320.

Total Estimated Annual Burden Hours: 24,281.

Total Estimated Annual Costs Burden: $0.

Description: Section 221(a) of Title II, Chapter 2 of the Trade Act of 1974, as amended by the Trade Act of 2002, authorizes the Secretary of Labor and the Governor of each State to accept petitions for certification of eligibility to apply for adjustment assistance. The Form ETA 9042A, Petition for Trade Adjustment Assistance and Alternative Trade Adjustment Assistance, and its Spanish translation, Form 9042a-1, Solicitud De Asistencia Para Ajuste, establish a format that may be used for filing such petitions. The Department's regulations regarding petitions for worker adjustment assistance may be found at 29 CFR 90. The Forms ETA 9043a, Business Confidential Data Request, ETA 8562a, Business Confidential Customer Survey and ETA 9118, Business Confidential Non-Production Questionnaire are undertaken in accordance with Sections 222, 223 and 249 of the Trade Act of 1974, as amended by the Trade Act of 2002, are used by the Secretary of Labor to certify groups of workers as eligible to apply for worker trade adjustment assistance. For additional information, see related notice published at Volume 73 FR 39724 on July 10, 2008.

Darrin A. King,
Departmental Clearance Officer.

[FR Doc. E8-30263 Filed 12-19-08; 8:45 am]

BILLING CODE 4510-FN-P